DEPARTMENT OF LABOR

Employment and Training Administration

[TA-W-63,963; TA-W-63,963A; TA-W-63,963B]

Fisher Corporation; Troy, Sterling Heights, and St. Clair Shores, MI; Amended Certification Regarding Eligibility To Apply for Worker Adjustment Assistance and Alternative Trade Adjustment Assistance

In accordance with Section 223 of the Trade Act of 1974 (19 U.S.C. 2273) the Department of Labor issued a Certification of Eligibility to Apply for Worker Adjustment Assistance and Alternative Trade Adjustment Assistance on September 11, 2008, applicable to Fisher Corporation, Troy, Michigan. The notice was published in the Federal Register on September 24, 2008 (73 FR 186).

At the request of a company official, the Department reviewed the certification for workers of the subject firm. New information shows that the company official filed for additional locations of Fisher Corporation including workers of 6550 Progress Dr., Sterling Heights, Michigan and 33195 Harper Ave., St. Clair Shores, Michigan locations. The impacted employees of Fisher Corporation produced formed metal automotive component parts.

The added locations of Fisher Corporation were not under existing certifications one year prior to the date on the current petition. There are multiple locations of Fisher Corporation in St. Clair Shores, Michigan. One location is currently certified under TA-W-63,529 and expires on June 30, 2010 and covers workers who produced recliner mechanisms for automobile seats.

The Department is amending this certification to include all impacted employees of Fisher Corporation, 6550 Progress Dr., Sterling Heights, Michigan and 33195 Harper Ave., St. Clair Shores, Michigan that produced like or directly competitive articles as the Troy location and served the same customer base.

The intent of the Department's certification is to include all workers engaged in activities related to the production of formed metal automotive component parts of Fisher Corporation who were adversely affected secondary workers under Section 222 of the Trade Act of 1974, as amended.

The amended notice applicable to TA-W-63,963 is hereby issued as follows:

“All workers of Fisher Corporation located in Troy, Michigan (TA-W-63,963), who became totally or partially separated from employment on or after September 29, 2008 through September 11, 2010 are eligible to apply for adjustment assistance under Section 223 of the Trade Act of 1974, and are also eligible to apply for alternative trade adjustment assistance under Section 246 of the Trade Act of 1974.

All workers of Fisher Corporation, Sterling Heights, Michigan (TA-W-63,963A) and Fisher Corporation, 33195 Harper Ave., St. Clair Shores, Michigan (TA-W-63,963B), who became totally or partially separated from employment on or after September 1, 2007 through September 11, 2010 are eligible to apply for adjustment assistance under Section 223 of the Trade Act of 1974, and are also eligible to apply for alternative trade adjustment assistance under Section 246 of the Trade Act of 1974.”

Signed at Washington, DC this 19th day of May 2009.
Elliott S. Kushner,
Certifying Officer, Division of Trade Adjustment Assistance.

[FR Doc. E9-14325 Filed 6-17-09; 8:45 am]

BILLING CODE 4510-FN-P